DEPARTMENT OF LABOR

Employment and Training Administration

[TA-W-82,838]

Apria Healthcare LLC, Billing Department, Overland Park, Kansas; Notice of Negative Determination Regarding Application for Reconsideration

By application dated September 19, 2013, a former worker of Apria Healthcare LLC, Billing Department, Overland Park, Kansas (TA-W-82,838) requested administrative reconsideration of the Department of Labor's negative determination regarding eligibility to apply for Trade Adjustment Assistance (TAA), applicable to workers and former workers of Apria Healthcare LLC, Billing Department, Overland Park, Kansas (hereafter referred to as “Apria-Billing”). Workers of April-Billing are engaged in activities related to the supply of medical billing services. On September 5, 2013, the Department issued a negative determination applicable to workers and former workers of Apria-Billing and issued a certification applicable to workers and former workers of Apria Healthcare LLC, Document Imaging Department, Overland Park, Kansas (TA-W-82,838A). The Department's Notice of determination of TA-W-82,838 and TA-W-82,838A was published in the Federal Register on October 3, 2013 (78 FR 61392).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The negative determination applicable to workers and former workers of Apria-Billing was based on the Department's findings that neither increased of billing services like or directly competitive with the medical billing services supplied by the subject workers, a shift in the supply of such services to a foreign country by the workers' firm, nor an acquisition of such services from a foreign country by the workers' firm, contributed importantly to worker group separations at Apria-Billing. In addition, the investigation revealed that the petitioning worker group did not meet the criteria set forth in Section 222(a) and Section 222(e) of the Trade Act of 1974, as amended.

The request for reconsideration states that the separated worker “did the N and K report which was electronic rejections from India and my job was to tell them how to get the claim to go through. Lots of times the claims had to be dropped onshore (meaning United States) . . . I do have documentation and emails . . . to support my facts.” Following the receipt of the request for reconsideration, the Department received several electronic messages (emails) from the separated worker with additional information, which included emails from Apria management to the worker, an explanation of the worker's responsibilities, and the assertion that the worker's separation was due to outsourcing to “Emdeon and India.”

The Department has carefully reviewed the information provided by the worker seeking reconsideration, previously-submitted information, and information regarding Emdeon, and has determined that the request for reconsideration did not supply facts not previously considered and did not provide additional documentation indicating that there was either 1) a mistake in the determination of facts not previously considered or 2) a misinterpretation of facts or of the law justifying reconsideration of the initial determination.

Based on these findings, the Department determines that, with regards to the immediate application for administrative reconsideration, 29 CFR 90.18(c) has not been met.

Conclusion

After careful review of the application for reconsideration and investigative findings, I conclude that there has been no error or misinterpretation of the law or of the facts which would justify reconsideration of the Department of Labor's prior decision. Accordingly, the application is denied.

Signed in Washington, DC, this 12th day of November, 2013.
Del Min Amy Chen,
Certifying Officer, Office of Trade Adjustment Assistance.

[FR Doc. 2013-28331 Filed 11-25-13; 8:45 am]

BILLING CODE 4510-FN-P